DEPARTMENT OF TRANSPORTATION

Federal Aviation Administration

Sixth Meeting: RTCA Special Committee 233 Addressing Human Factors/Pilot Interface Issues for Avionics (SC-233)

AGENCY: Federal Aviation Administration (FAA), U.S. Department of Transportation (DOT).

ACTION: Notice of Sixth RTCA Special Committee 233 meeting.

SUMMARY: The FAA is issuing this notice to advise the public of the Sixth RTCA Special Committee 233 meeting.

DATES: The meeting will be held June 21-23, 2016 from 9:00 a.m.-5:00 p.m.

ADDRESS: The meeting will be held at FedEx World Headquarters Conference Center, 3670 Hacks Cross Road, Building G (3rd Floor), Memphis, TN 38125-8800. Tel: (202) 330-0662.

FOR FURTHER INFORMATION CONTACT: The RTCA Secretariat, 1150 18th Street NW., Suite 910, Washington, DC 20036, or by telephone at (202) 833-9339, fax at (202) 833-9434, or Web site at http://www.rtca.org or Karan Hofmann, Program Director, RTCA, Inc., khofmann@rtca.org, (202) 330-0680 or Marc Mannella, FedEx, marc.mannella@fedex.com.

SUPPLEMENTARY INFORMATION: Pursuant to section 10(a)(2) of the Federal Advisory Committee Act (Pub. L. 92-463, 5 U.S.C., App.), notice is hereby given for a meeting of RTCA Special Committee 233. The agenda will include the following:

Tuesday, June 21, 2016

1. Introduction, Upcoming PMC Dates and Deliverable

2. Review of RTCA Consensus Process

3. Review of TOR

4. Review Notice 8110.98

5. Current status of the document

a. WG2 update

b. WG3 update

6. Leadership guidance to subcommittees

Wednesday, June 22, 2016

1. Working Groups Break Out Sessions

2. End of the Day Working Group Status Report Outs

Thursday, June 23, 2016

1. Working Groups Break Out Session

2. Leadership Team Wrap-up

3. Discussion on Document Structure and Next Steps, Review Process

4. Working Groups Assignment Status

a. Subcommittee leader reports

b. Follow-on actions identified for each work group

5. Meeting Recap, Action Items, Key Dates

Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time. Please RSVP with Marc Mannella if interested in participating in the FedEx Hub Tour held at 10:30 p.m.

Issued in Washington, DC, on May 10, 2016.
Latasha Robinson,
Management & Program Analyst, NextGen, Enterprise Support Services Division, Federal Aviation Administration.

[FR Doc. 2016-11501 Filed 5-13-16; 8:45 am]

BILLING CODE 4910-13-P